DEPARTMENT OF ENERGY

Federal Energy Regulatory Commission

[IC07-6-001, FERC FORM 6]

Commission Information Collection Activities, Proposed Collection; Comment Request; Extension

March 30, 2007.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received comments from one entity in response to an earlier Federal Register notice of December 15, 2006 (71 FR 75522-75523) and has provided a response to the commenters in its submission to OMB. Copies of the submission were also submitted to the commenter.

DATES: Comments on the collection of information are due by May 4, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-6-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC 6 “Annual Report of Oil Pipeline Companies.”

2. Sponsor: Federal Energy Regulatory Commission.

3. Control No.: 1902-0022.

The Commission is now requesting that OMB approve and extend the expiration date for an additional three years with no changes to the existing collection. The information filed with the Commission is mandatory.

4. Necessity of the Collection of Information: Submission of the information is necessary for the Commission to carry out its responsibilities in implementing the statutory provisions of the Interstate Commerce Act (ICA), (49 U.S.C.). The ICA authorizes the Commission to make investigations and to collect and record data and to prescribe rules and regulations concerning accounts, records and memoranda as necessary or appropriate for purposes of administering the ICA. The Commission may prescribe a system of accounts for jurisdictional companies and, after notice and opportunity for hearing may determine the accounts in which particular outlays and receipts will be entered, charged or credited. Every pipeline carrier subject to the provisions of Section 20 of the ICA must electronically file with the Commission through Commission-provided software.

The Commission's Office of Enforcement uses the collected FERC Form 6 data to assist in the implementation of its financial audits and investigation programs, in the continuous review of the financial condition of regulated companies and in the assessment of energy markets. The Office of Energy Markets and Reliability (OEMR) uses the data collected for its various rate proceedings and economic analyses. The Office of Administrative Litigation (OAL) uses the data collected for background research for use in litigation. The Office of General Counsel uses the data in its programs relating to the administration of the ICA. Additionally, the Office of the Executive Director (OED) uses the data contained on certain schedules of the FERC Form 6 to compute annual charges which are then assessed against oil pipeline companies to recover the Commission's annual costs. These annual charges are required by Section 3401 of the Budget Act.

Most notably, the ICA mandates the collection of information needed by the Commission to perform it regulatory responsibilities in the setting of the just and reasonable rates. The Commission could be held in violation of the ICA if the information was not collected.

The Commission implements these filing requirements in the Code of Federal Regulations (CFR) under 18 CFR Section 357.1 and 357.2.

5. Respondent Description: The respondent universe currently comprises 155 companies (on average) subject to the Commission's jurisdiction.

6. Estimated Burden: 28,830 total hours, 155 respondents (average), 1 response per respondent, and 189 hours per response (average).

7. Estimated Cost Burden to respondents: 28,830 hours/2080 hours per years × $117,321 per year = $1,692,889. The cost per respondent is equal to $10,922.

Statutory Authority: Statutory provisions of 49 App. U.S.C. §§ 1-85 (1988).

Philis J. Posey,
Acting Secretary.

[FR Doc. E7-6321 Filed 4-4-07; 8:45 am]

BILLING CODE 6717-01-P